FEDERAL TRADE COMMISSION

16 CFR Part 305

Energy Labeling Rule

CFR Correction

In Title 16 of the Code of Federal Regulations, Parts 0 to 999, revised as of January 1, 2018, on page 330, in Appendix L to Part 305, “Sample Label 1—Refrigerator-Freezer” is inserted before “Sample Label 3—Dishwasher” to read as follows:

BILLING CODE 1301-00-D

[FR Doc. 2018-20328 Filed 9-17-18; 8:45 am]

BILLING CODE 1301-00-C